DEPARTMENT OF AGRICULTURE

Food and Nutrition Service

Agency Information Collection Activities: Proposed Collection; Comment Request—Food Program and Reporting System (FPRS)

AGENCY: Food and Nutrition Service (FNS), USDA.

ACTION: Notice.

SUMMARY: In accordance with the Paperwork Reduction Act of 1995, this notice invites the general public and other public agencies to comment on a proposed information collection, which is a revision of a currently approved form.

The purpose of the Food and Programs Reporting System (FPRS) is to facilitate data gathering for the reporting of data for the Supplemental Nutrition Assistance Program (SNAP) and the Special Nutrition Programs. FPRS consolidated certain programmatic and financial data reporting requirements in an electronic reporting system and is the primary collection point for FNS program performance statistics and financial data from State agencies (SA), Indian Tribal Organizations (ITO), and U.S. Territories participating in the nutrition assistance programs.

DATES: Written comments must be submitted on or before September 4, 2015.

ADDRESSES: Comments are invited on: (a) Whether the proposed collection of information is necessary for the proper performance of the functions of the agency, including whether the information has practical utility; (b) the accuracy of the agency's estimate of the burden hours, including the validity of the methodology and assumptions that were used; (c) ways to enhance the quality, utility, and clarity of the information to be collected; and (d) ways to minimize the burden of the collection of information on those who are to respond, including through the use of appropriate automated, electronic, mechanical or other technological collection techniques or other forms of information technology.

Comments may be sent to Jane Duffield, Chief, State Administration Branch, Program Accountability and Administration Division, Supplemental Nutrition Assistance Program, U.S. Department of Agriculture, Food and Nutrition Service, 3101 Park Center Drive, Room 818, Alexandria, VA 22302. Comments may also be submitted via fax to the attention of Jane Duffield at 703-605-0795, Room 824, or via email to SNAPSAB@fns.usda.gov. Comments will also be accepted through the Federal eRulemaking Portal. Go to http://www.regulations.gov and follow the online instructions for submitting comments electronically.

All written comments will be open for public inspection at the office of FNS during regular business hours (8:30 a.m. to 5:00 p.m. Monday through Friday) at 3101 Park Center Drive, Room 824, Alexandria, Virginia 22302.

All responses to this notice will be summarized and included in the request for the Office of Management and Budget (OMB) approval. All comments will also be a matter of public record.

Contact for Further Information: Requests for additional information should be directed to Kelly Stewart at SNAPSAB@fns.usda.gov.

SUPPLEMENTARY INFORMATION:

Title: Food Program and Reporting System.

OMB Number: 0584-0594.

Form Number and Name: FNS-366B—Program and Budget Summary Statement Part B—Program Activity Statement.

Expiration Date: 06/30/2016.

Type of Request: Revision of a currently approved information collection.

Abstract: Section 16(a) of the Food and Nutrition Act of 2008 (the Act) authorizes 50 percent Federal reimbursement for State agency costs to administer the Supplemental Nutrition Assistance Program (SNAP). SNAP regulations at 7 CFR 272.2(a) require that State agencies plan and budget program operations and establish objectives for the next year. The basic components of the State Plan of Operation are the Federal/State Agreement, the Budget Projection Statement and the Program Activity Statement (§ 272.2(a)(2)). Under § 272.2(c), the State agency shall submit to FNS for approval a Budget Projection Statement (which projects total Federal administrative costs for the upcoming fiscal year) and a Program Activity Statement (which provides program activity data for the preceding fiscal year). Currently, regulations at § 272.2(e) require SA submit the Program Activity Statement, or form FNS-366B, to FNS no later than 45 days after the end of the State agency's fiscal year, which is typically August 15 for most States. Form FNS-366B is required to substantiate the costs the State agency expects to incur during the next fiscal year. It currently provides data on the number of SNAP applications the State agency processed, the number of fair hearings the State agency conducted, and the fraud control activities the State agency engaged. FNS uses the data to monitor State agency activity levels and performance.

FNS National and Regional Office staff developed national standardized Management Evaluation (ME) protocols for both Recipient Integrity and Program Access. The ME process provides a comprehensive assessment of how effectively States are managing SNAP activities related to the topic area and an opportunity for communication between FNS and State agencies on those management areas. MEs provided FNS the proper channel to discuss with State and local officials ideas for improving form FNS-366B, particularly Section C. In August 2014, the U.S. Government Accountability Office (GAO) completed a study of FNS' oversight of State recipient fraud responsibilities (GAO-14-641, SNAP: Enhanced Detection Tools Could Improve Efforts to Combat Recipient Fraud). GAO concluded FNS' ability to monitor State anti-fraud activities and develop more effective anti-fraud strategies was hindered by the lack of consistency and reliability of State reported data on form FNS-366B. FNS published a Request for Information (RFI) in the Federal Register on October 16, 2014, (79 FR 62096) seeking State agency feedback on the usefulness of the data collected and the level of difficulty completing sections E and F of the form. FNS received responses from 17 State agencies and 1 National organization and the feedback was generally consistent.

Based on the GAO report, RFI responses, and results of MEs completed to date, it is apparent that State reporting lacks consistency and form FNS-366B data elements and instructions are not clearly defined. Due to the lack of clarity in these instructions, responses are left open to varying interpretation, among States, leading to unreliable reported data. Form FNS-366B lacks certain data elements that would increase its usefulness by providing more accurate information from State agencies on SNAP application timeliness, and on the types and impacts of fraud prevention activities in use. The revision of this form will improve reliability and accuracy of State reporting by adding, removing, and revising data elements related to application processing, fraud investigations, administrative disqualification hearings and prosecutions. By collecting more accurate and useful data SNAP can target technical assistance to those State agencies that need the most significant improvements to their application and recipient integrity processes. The changes to each section of form FNS-366B are specified below. Revisions were made to the form instructions for all revised sections to reflect the new and revised data elements. The revised form is available for review with this docket on www.Regulations.gov, in Supporting Documents.

Section C.—Certifications: The current form collects information on the approval and denial of initial applications, recertifications, and expedited service. Recent reviews indicate the data reported by States in section C of form FNS-366B are inaccurate and therefore, unreliable. In 2014, FNS introduced a new warning process for States with poor application processing timeliness. FNS has identified inconsistencies between State data received under the warning process and data reported on form FNS-366B. In addition, FNS has identified that State backlogs of initial and recertification applications are an indicator that poor program compliance is adversely affecting program access. Updating form FNS-366B instructions to clarify requested data elements and to include data on overdue applications will assist FNS in monitoring State application timeliness performance. To improve reporting accuracy and usefulness, revisions to form FNS-366B in Section C include:

(1) Addition of the words “Approved and Denied” in header row (C) Total in section C, Certifications.

(2) Addition of new column D with subset columns D(1)—D(4), under the header “Approved Overdue Applications” in section C, Certifications.

a. New column D will collect the counts of overdue applications for “Initial Applications” (line 1), “Recertifications” (line 2), and “Total” (line 3) broken out by “1-30 days” (Column D(1)), “31-60 days” (Column D(2)), “61-90 days” (Column D(3)), and “Over 91 days” (Column D(4)).

Section D—Fair Hearings: There are no changes to this section. Section D collects data on the number of fair hearings requested and held, as well as the outcomes of those fair hearings.

Sections E-G—Fraud Activity: Information currently collected on this form includes the total number of fraud referrals, investigations, prosecutions, disqualification consent agreements (DCA), administrative disqualification hearings (ADH), and ADH waivers for the reporting fiscal year. This form further collects data on program dollars associated with pre-certification and post-certification fraud investigations, as well as program dollars that may be recovered when a disqualification is established. Form FNS-366B lacks certain data elements that would increase its usefulness and provide more accurate information on the types and impacts of State fraud prevention activities. In the revised form FNS has replaced insufficient data elements with new reporting elements that better measure the effectiveness and impact of fraud prevention activities, such as those focusing on SNAP recipient benefit trafficking investigations and disqualifications, allowing FNS to better focus fraud prevention and detection strategies where needed. FNS has also added operational efficiency and cost avoidance measures to quantify a return on investment from fraud control activities. To improve reporting accuracy and usefulness, revisions to form FNS-366B in Sections E-G include:

Section E.—Fraud Investigations:

(1) Removed requirement to separate investigations by “Pre-certification” (line 1) and “Post-certification” (line 2) and replaced with requirement to separate investigations by “Eligibility Fraud” (line 1) and “Trafficking” (line 2)

(2) Removed “Referred for Invest.” (column a)

(3) Changed “Invest Completed—Negative” (column b) to “Completed, Individual Not Referred for ADH or Prosecution”

a. To collect data on whether investigations not resulting in a fraud Intentional Program Violation (IPV) did result in an overissuance claim due to an Inadvertent Household Error (IHE), sub-columns were added in this section for: “(1) No IHE established”, “(2) IHE Established”, and “(3) $ IHE Established”

(4) Changed “Invest Completed—Positive” (column c) to “Completed, Individual Referred for ADH or Prosecution” (shifted to column a)

(5) Removed “Program Dollars” (column d) and “Invest Cancelled” (column f)

(6) Changed “Invest Pending” (column e) to “Open Investigations, Individuals” (shifted to column c)

(7) To collect data on operational efficiency, added “Average # of Days per Investigation” (column d), “Investigation Costs” (column e), and “Investigation FTE” (column f)

Section F.—Administrative Disqualification Hearings:

(1) Split Section F on current form into sections F and G on revised form. Section F now collects data on Administrative Disqualification Hearings (ADH) only.

(2) Removed “Cases (Persons) Referred” (column a)

(3) Changed “Upheld Convictions” (column d) to “ADH Completed, Individual Disqualified” (shifted to column a)

(4) Changed “Waivers” (column c) to “Waiver Signed, Individual Disqualified” (shifted to column b)

(5) Changed “Actually Acquitted” (column e) to “ADH Completed, Individual Not Disqualified” (shifted to column c)

(6) To collect data on operational efficiency, added “Average # of Days from Referral to Disqualification” (column d)

(7) Changed “Program Dollars” (shifted to column e) to include “Amount Subject to Claim” (e1) and “Cost Savings” (e2)

(8) Removed “Pending Decisions” (column g)

(9) To capture cases referred for ADH, but awaiting action by the State agency, added “Referred Individuals Awaiting Scheduling” (column f)

a. To collect data on the number of days cases await ADH scheduling, sub-columns were added in this section for: “(1) 0-180 Days”, “(2) 181-365 Days”, and “(3) 366+ Days”.

(10) Shifted “Decisions Overdue” to column g

Section G.—Prosecutions:

(1) Split Section F on current form into sections F and G on revised form. Section G proposes to collect data on Prosecutions only.

(2) Removed “Cases (Persons) Referred” (column a)

(3) Changed “Upheld Convictions” (column d) to “Prosecution Completed, Individual Disqualified” (shifted to column a)

(4) Changed “Waivers” (column c) to “DCA Signed, Individual Disqualified” (shifted to column b)

(5) Changed “Actually Acquitted” (column e) to “Prosecution Completed, Individual Not Disqualified” (shifted to column c)

(6) To collect data on operational efficiency, added “Average # Days from Referral to Disqualification” (column d)

(7) Changed “Program Dollars” (shifted to column e) to include “Amount Subject to Claim” (e1) and “Cost Savings” (e2)

(8) Removed “Pending Decisions” (column g)

(9) To capture cases referred to the prosecuting agency, but awaiting action, added “Referred Individuals, No Action by Prosecutor” (column f)

a. To collect data on the status of cases awaiting action, sub-columns were added in this section for: “(1) 366+ Days” and “(2) Reclaimed for ADH”.

Section H.—Remarks:

(1) Added remarks section (Section H) to allow space for State agencies to provide any additional information necessary to support data reported on the FNS-366B.

The current burden for FNS 366 B is 950.29 hours. As a result of these revisions, there is an anticipated burden of 1,855, an increase of 904.71 hours for form FNS-366B. As this is a revision to form FNS-366B within the FPRS system, the total FPRS burden is summarized below.

Reporting Burden Estimates

Form FNS-366B. Fifty-three (53) SA submit 1 response annually for a total of 53 annual responses. The annual reporting burden for form FNS-366B report is 35 hours per respondent to complete the form. The reporting burden for form FNS-366B alone is 1,855 hours (53SA × 1 annual report = 53 total annual responses × 35 hours per response = 1,855). There are recordkeeping burdens which are maintained in a separated OMB Control No.: 0584-0083, Expiration Date: 4/30/2017. As this is a revision to the reporting burden estimates for form FNS-366B within the FPRS system, the total FPRS burden is summarized below.

Affected Public: State, Local and Tribal Government Agencies.

Estimated Number of Respondents: 3,266.

Number of Responses per Respondent: 7.3.

Estimated Total Annual Responses: 23,789.

Hours per Response: 3.7.

Total Annual Burden Hours: 87,716.

Dated: June 25, 2015.
Jeffrey J. Tribiano,
Acting Administrator, Food and Nutrition Service.

[FR Doc. 2015-16476 Filed 7-2-15; 8:45 am]

BILLING CODE 3410-34-P